DEPARTMENT OF ENERGY

Federal Energy Regulatory Commission

[Project Nos. 2165-027]

Alabama Power Company; Notice of Availability of Environmental Assessment

September 9, 2009.

In accordance with the National Environmental Policy Act of 1969 and the Federal Energy Regulatory Commission's (Commission) regulations, 18 CFR Part 380 (Order No. 486, 52 FR 47897), the Office of Energy Projects has reviewed an application for non-project use of project lands and waters at the Warrior River Hydroelectric Project (FERC No. 2165). An environmental assessment (EA) has been prepared as part of staff's review of the proposal. The proposed non-project use is located on Lewis Smith Lake in Winston County, Alabama.

In the application, Alabama Power requests Commission authorization to permit Silverock Cove, LLC to install 11 cluster docks (with a total of 74 boat slips), a walking trail, and a community boat launch within the project boundary. These structures would serve the residents of Silverock Cove, a planned community that is located adjacent to project lands. The EA contains Commission staff's analysis of the probable environmental impacts of the proposal and concludes that approval of the proposal, as modified by the staff, would not constitute a major federal action significantly affecting the quality of the human environment.

The EA is attached to a Commission order titled “Order Modifying and Approving Non-Project Use of Project Lands and Waters,” which was issued September 8, 2009, and is available for review and reproduction at the Commission's Public Reference Room, located at 888 First Street, NE., Room 2A, Washington, DC 20426. The EA may also be viewed on the Commission's Web site at http://www.ferc.gov using the “elibrary” link. Enter the docket number (P-2165) in the docket number field to access the document. For assistance, contact FERC Online Support at FERCOnlineSupport@ferc.gov or toll-free at 1-866-208-3372, or for TTY, (202) 502-8659.

Kimberly D. Bose,
Secretary.

[FR Doc. E9-22234 Filed 9-15-09; 8:45 am]

BILLING CODE 6717-01-P